SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 15, 2005.

ADDRESSES: Send all comments regarding whether this information collection is necessary for the proper performance of the function of the agency, whether the burden estimates are accurate, and if there are ways to minimize the estimated burden and enhance the quality of the collection, to Charles Ou, Senior Economist, Office of Advocacy, Small Business Administration, 409 3rd Street, SW., Suite 7800, Washington, DC 20416.

FOR FURTHER INFORMATION CONTACT: Charles Ou, Senior Economist, (202) 205-6966 or Curtis B. Rich, Management Analyst, (202) 205-7030.

SUPPLEMENTARY INFORMATION: Title: “Impact of Credit Scoring on Lending to Small Firms.”

Description of Respondents: Senior executives in banks and thrifts who are knowledgeable about credit risk and lending practices for small businesses.

Form No: N/A.

Annual Responses: 1,200.

Annual Burden: 300.

Jacqueline White,
Chief, Administrative Information Branch.

[FR Doc. 05-856 Filed 1-13-05; 8:45 am]

BILLING CODE 8025-01-P